DEPARTMENT OF AGRICULTURE

Animal and Plant Health Inspection Service

7 CFR Part 301

[Docket No. APHIS-2006-0151]

Oriental Fruit Fly; Addition and Removal of Quarantined Areas in California

AGENCY: Animal and Plant Health Inspection Service, USDA.

ACTION: Affirmation of interim rule as final rule.

SUMMARY: We are adopting as a final rule, without change, an interim rule that amended the Oriental fruit fly regulations by removing the Santa Ana area of Orange County, CA, from the list of quarantined areas and removing restrictions on the interstate movement of regulated articles from that area. That action was necessary to remove restrictions that were no longer necessary to prevent the spread of the Oriental fruit fly into noninfested areas of the United States. The Santa Ana area of Orange County, CA, was the last remaining area in California quarantined for Oriental fruit fly. Therefore, as a result of that action, there are no longer any areas in the continental United States quarantined for the Oriental fruit fly.

DATES: Effective on October 26, 2007, we are adopting as a final rule the interim rule published at 72 FR 40061-40062 on July 23, 2007.

FOR FURTHER INFORMATION CONTACT: Mr. Wayne D. Burnett, Domestic Coordinator, Fruit Fly Exclusion and Detection Programs, APHIS, 4700 River Road Unit 137, Riverdale, MD 20737-1234; (301) 734-6553.

SUPPLEMENTARY INFORMATION:

Background

The Oriental fruit fly, Bactrocera dorsalis (Hendel), is a destructive pest of citrus and other types of fruit, nuts, vegetables, and berries. The short life cycle of the Oriental fruit fly allows rapid development of serious outbreaks, which can cause severe economic losses. Heavy infestations can cause complete loss of crops.

The Oriental fruit fly regulations, contained in 7 CFR 301.93 through 301.93-10 (referred to below as the regulations), restrict the interstate movement of regulated articles from quarantined areas to prevent the spread of the Oriental fruit fly to noninfested areas of the United States. The regulations also designate soil and a large number of fruits, nuts, vegetables, and berries as regulated articles.

In an interim rule ¹ effective and published in the Federal Register on November 17, 2006 (71 FR 66831-66833, Docket No. APHIS-2006-0151), we amended the regulations by adding a portion of San Bernardino County, CA, to the list of quarantined areas and restricting the interstate movement of regulated articles from that area. We also amended the definitions of the terms core area and day degrees and added jujube (Ziziphus spp.) to the list of articles regulated for Oriental fruit fly. The November 2006 interim rule was necessary to prevent the spread of Oriental fruit fly into noninfested areas of the United States and to update the regulations to reflect current science and practices.

¹ To view the interim rules and the comment we received, go to http://www.regulations.gov/fdmspublic/component/main?main=DocketDetail&d= APHIS-2006-0151.

Comments on the interim rule were required to be received on or before January 16, 2007. We did not receive any comments.

In a second interim rule ² effective and published in the Federal Register on January 22, 2007 (72 FR 2597-2599, Docket No. APHIS-2006-0151), we amended the regulations by adding the Santa Ana area of Orange County, CA, to the list of quarantined areas and restricting the interstate movement of regulated articles from that area. In addition, we removed the portion of San Bernardino County, CA, from the list of quarantined areas and removed restrictions on the interstate movement of regulated articles from that area. We took that action based on trapping surveys conducted by inspectors of California State and county agencies that showed that the Santa Ana area of Orange County, CA, had been infested with the Oriental fruit fly and that the Oriental fruit fly had been eradicated from the quarantined portion of San Bernardino County, CA.

²

See footnote 1.

Comments on the interim rule were required to be received on or before March 23, 2007. We received one comment by that date, from a private citizen. The commenter alluded to fruit fly eradication efforts that had occurred in the 1980s, but did not address the interim rule.

Finally, in a third interim rule ³ effective and published in the Federal Register on July 23, 2007 (72 FR 40061-40062, Docket No. APHIS-2006-0151), we amended the regulations by removing the Santa Ana area of Orange County, CA, from the list of quarantined areas and removing restrictions on the interstate movement of regulated articles from that area. We took that action based on trapping surveys conducted by inspectors of California State and county agencies that showed that the Oriental fruit fly had been eradicated from the Santa Ana area of Orange County, CA. As a result of that action, there are no longer any areas in the continental United States quarantined for the Oriental fruit fly.

³ See footnote 1.

Comments on the interim rule were required to be received on or before September 21, 2007. We did not receive any comments. Therefore, for the reasons given in the interim rule, we are adopting the July 2007 interim rule as a final rule.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 72 FR 40061-40062 on July 23, 2007.

Done in Washington, DC, this 22nd day of October 2007.
Kevin Shea,
Acting Administrator, Animal and Plant Health Inspection Service.

[FR Doc. E7-21119 Filed 10-25-07; 8:45 am]

BILLING CODE 3410-34-P